DEPARTMENT OF THE TREASURY

Internal Revenue Service

Quarterly Publication of Individuals, Who Have Chosen To Expatriate

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2013. For purposes of this listing, long-term residents, as defined in section 877(e)(2), are treated as if they were citizens of the United States who lost citizenship.

LAST NAME | FIRST NAME | MIDDLE NAME/INITIALS
ABDULAZIZ ABDULLAH AL SAUD | SADEEN |
ABRAM | ISAAC | ZIKO
ADAMS | STANLEY | PHILLIP
ADRIAN | SHEILA | MAY
AHOUR | RAMIN |
AKRE | JAMES | EUGENE
AKRE | PIA | SOPHIE
AL-JALLAL | ZIYAD | ABDULAZIZ
AL-KAZEMI | MAY | FAISAL
ALOMRAN | ABDULAZIZ |
AL-RUMAIM | TAREK |
AL-SABAH | BIBI | MURBARAK
AL-SABAH | YASMINE | MUBARAK
AMARAL | DAVID | MICHAEL
AMMANN | HOPE | TRUDY
ANDO | YUKI |
APEL | EVA | NOELLE
ARIAS | MADELAINE | ANTONIA
AROSEMENA III | ROGELIO | AUGUSTO
ASKAR | EMAD | A
ASTROW | ANDRE | IGOR
BABINEAU | MARIE | BRENDA
BAILLIE | IAIN | CAMERON
BAILLIE | JOAN | MARY CHRISTINE
BAKER | EARL |
BALAZ | MARKUS | CHRISTIAN
BALDWIN | SARAH | ANNA GERRING
BANG | HEESEUNG |
BARRAZA | SANTIAGO | E
BARTEL-MOUFANG | DIANA |
BATTIG | RAINER | KARL
BAUMANN | MARTIN | PETER
BAUMBERGER | ALEXANDRA | SUSAN
BAUMBERGER | JACQUELINE | SUE
BAUR | ROBERT | GEORGE
BAYER | JOHN | JAMES
BEARE | PETER | WILLIAM RICHARD
BEERCROFT | DIANE | DERBY
BENISTANT | KELLY | MARIE
BENNETT | JESSICA | ANN MARY
BENTLEY | MARK | EDWARD
BERNING | HANS | JOACHIM
BERRY | AURELIE | ELENA
BERRY | MARINA | SULZBERGER
BHANG | SUN | HEE
BINDING | GARRET | SHEEHY
BLAETTLER | IRIS | CAROL
BLEAU | SYLVAIN |
BLOOMFIELD | RICHARD | JOHN
BLUNDEN | KATHERINE | ANN
BLUNT | ALICE | GENEVIEVE
BONAERT DE LAUBESPIN | ELEONORE | M.J.M.
BONNE | ALEXANDRA |
BOODY | MIRIAM | JANE
BOSCHERT | CATHERINE | ANNE
BOSCHERT | CYRIL | ANTHONY
BOYD | SONYA | YOLANDA
BRACK | HANS | PETER
BRAMSTEDT | KATRINA | ANDREA
BRANDENBERGER | VERENA | CAROLINE
BRANDT | CHRISTOPHER | ANDRE
BREITENMOSER | ERICH |
BREZINA | KAREN | JANE
BRIGGS | CAROL | ELIZABETH
BROADWAY | AARON | DUKE
BRUEGGEMANN | IRMGARD | ELISABETH
BRUEGGEMANN | KONRAD |
BRUNOT | NANCY | VARENNE
BUCH | MARION | SUSAN
BUCHWALDER | RENE | WERNER
BUERGI-SAVILLE | MARY | ELIZABETH
BUHLMANN | GABRIELA | ANNA
BUNTING | ALAN |
BUNTING | LINDA | CATHERINE
BURNSIDE-NORMAN | JANET |
BUSE | CHARLES | TWEEDT
CAIN | PATRICK | ELIOT MACAULAY
CALAME | THIERRY | JAMES
CALEDON | WENDY | CATHERINE
CALGHER | MARTA |
CALLAHAN | PAUL | RYAN
CAMPBELL | BRYCE | ROBERT
CANTINI | UGO | PAUL
CANTINI-FISHER | LAURA |
CARRELL | ELIZABETH | ANN
CASADEI-MARMET | DANIELLE | BEATRICE
CASEY | JANE | ANNE
CAVEGN | BARBARA | ELISABETH
CERQUEIRA | JOHN | DA SILVA
CHAMEIDES | ANDRE | MAXIMILIAN
CHAMEIDES | LILLIAN | JOAN
CHANG | DOUG | SOON
CHANG | JACLYN |
CHAPPELL | DALE | BRIAN
CHEE | MARY | KIASUANG
CHEN | HSIAO | HUNG NANCY
CHENG | JESSICA | ANNE
CHEUNG | ALLISON |
CHIANG | HUIHUA | KENNY
CHIN | HOLMAN |
CHO | KYUNG | JA
CHOI | UK | JIN
CHRIQUI | GENEVIEVE | MARIE
CHRIQUI | JOSEPJ |
CHUA | KATHLEEN | XIU ZHEN
CIESLAK-VAN DER KLINK | NADIA |
CLAGETT | DENNIS | MARSHALL
CLARK | KEVIN | ALEXANDER
CLIFF | CHRISTOPHER | STEVEN
COHOON | KERRY | BETH
COLLINS | RONALD | CHARLES
COLLINS | SEAN | DAMIAN
CONSTANTINE | CHARLES | THOMAS
COOK | NEIL | PATRICK
COSENTINO | LILIANA |
COSENTINO | MANUELA |
COUPER | JESSICA | ELAINE
CROWDER | MARCUS | JOHN
CULVERWELL | ALOSON | MURIEL
CURJEL | KAREN | CECILLE
CURRALL | SUSAN | MAYNE
CURRAT | VIRGINIA | ELIZABETH
DAHER | MICHAEL | GHALEB
DANENZA | ANDREW | ADNAN
DANIEL | EMILY | LOUISE
DANUBIO | SUSAN | KATHARINA
DARDIER | JEAN-MARC | HENRI
DARMON | GREGORY | PATRICK
DARMON | MATT | MOORE
DAS | SANJOY |
DAVIDSON | ALAN | RICHARD
DE LAMBILLY | NATHALIE | MARIE
DE MARCO | DIANA | MARY
DE MEESTER-DE HEYNDONCK | ORLANDE | CHRISTIANE
DE MERODE | CHRISTOPHER | LAWRENCE
DE MORTANGES | CHARLES | F W PAHUD
DE PAREDES | SUSANA | GARCIA
DEALY | JOHN | MICHAEL
DECKER | BARBARA |
DEDEYSTERE | CAROLINE | IRENE
DELESIE | KATRIEN | MARIE-PAULE A.
DESPLAND | OLIVIER | PIERRE
DEWARRAT | SYLVIANE | COSETTE
D'HULSTER | ANNA-MARIA | LOUISA ANDREA
DIAB | AMIN | BARAKAT
DOAN | KARIN | ANNE
DOAN | RICHARD | JOSEPH
DOMIATI | SAMATHA | ELIZABETH
DONNER | RICHARD | JOHN
DONZ | ISALINE |
DOREY | ROBERT |
DOS SANTOS | JULIA | LEAL GOMES
DOURGE | PAUL | LEON
DROULERS | ALEXANDER | CHARLES
du PARC LOCMARIA | AGNES | MARIE-GABRIELLE
DUHANEY | LADNER | SEYMOUR
DUNCAN | VALLE | ROZIER
DUNCAN, JR. | WILLIAM | GLENN
DUNHAM | JOSEPH | EDWARD
DURALL | DANIEL | MARTIN
DUTOIT | BERTRAND | MICHEL
EGGIMANN-STEINER | PAULA | CHRISTINE
EISENHUT | YANNIS | FABIAN
ELDER | LORNE | EVERETT
ELGIN-DUNLOP | MIRANDA | GRACE
ELMIGER | BEAT | ANTON
ELMIGER | JUERG | RAINER
ELSER | MITCHELL | JON
EMERSON | CLAUDETTE | ANN
ENDER | LAURA |
ENDER | OLINDA | MARIA CAVEGN
ENGLISH | CHRISTEN | HOPE
ENGLISH | DANIEL |
ENGLISH | JOEL | ANDREW
ERISMANN | CATHERINE |
ERNST-CHENG | LINNA |
ERWIN | VIRGINIA | JEAN
ESTRYN | GEORGE | VICTOR
EVELYN JR | GEORGE | ELBERT
EVERSFIELD | SARAH |
FABER | REBECCA |
FAN | RONALD | JIU NING
FANG | CHIH-SHANG |
FARJAM | SOUSSAN |
FARNER | ISABELLA | ELIZABETH
FELLER | ANISSA | JAMILA
FENDRICK | JOYCE | ELLEN
FENG | TONY |
FERRIN | DAVID | ALAN
FIGUEROA | MONICA | RENATA DOCHERTY
FINK | MICHAEL | ALLEN
FISCHER | ISABELLE | CHANTAL
FISCHER | NELLY | TEMOCHE
FITZ-THOMMEN | KARIN | RUTH
FLETCHER | MARGARET | JANE
FLOWERS, JR. | ROGER | WILLIAM
FOLKOFF | AARON | ZACHARY
FONTANA | THERESE |
FORD | BRIAN | WILLIAM
FORGIE | HUGH | DOUGLAS
FORSYTHE | SARA |
FOX | KENNETH | R
FOX | REBECCA | JANE
FRAZIER | CATHERINE | ARLENE
FRAZIER | JERRY | WADE
FREEMAN | BRET | R.
FREIHA | HASSIBA | BASSAM
FREMMERSVIK | BETTY | SOPHIE
FREY | HAROLD | BORIS
FRISCHKNECHT | DOMINIC | PETER
FUGLISTER | THOMAS |
FULLMER | MICHAEL | KEITH
GALBRAITH | SARA | GRAYSON
GARRIGUS | TODD | LAMONT
GELLERT | ELIZABETH | CLARIDGE
GERARD | ROBERT | EDWARD
GERBER | RICHARD |
GERBER | SUSAN | CHARLOTTE
GERMOND | ANJA | CHRISTINE
GERSBACH | KRISTINA | ELISABETH
GETTY | ISABEL | CHRISTINA EMANUELLE
GLESTI | THOMAS | STEVEN
GOLDSTEIN | ABRAHAM | R.
GOLDSTEIN | DAVID | ZRUBAVEL
GOMEZ | ISABELLE | CHRISTINE
GRANT | JASON | ANDREW
GRAY | STEPHEN | JOSEPH
GREEN | EMILY | ANAIS HUGHES
GREEN | PATRICIA | ANN
GREEN | PATRICK | RICHEY
GREENWOOD | ROBERT | ARTHUR
GRIGORIEV | DENIS | NIKOLAEVICH
GROETSCH | ANDREA | EMILLIE
GRUMAN | CAMILLE | CLAIRE
GRUMMENACKER | REGINA | ANNA
GUGGITZ | LYDIA | MARIA
HAARER | JOHANNES | PETER
HABLUTZEL | MARIA | GUADALUPE
HAENGGI-SCHAUFELBERGER | VIOLETTE | MARIANNE
HAENNI | SIMON | FRANCIS
HAGGLOF | ANDREA | CHRISTINA
HAGGLOF | CLAES | RICHARD
HAGMANN | BEATRICE |
HAGMANN | WALTER |
HAKOZAKI | SEIJI |
HALEY-UHLMANN | ALICE |
HALL | KATRINA | FAVELL
HAMILTON | WILLIAM | NEILSON
HAN | DANIEL | SEUNGCHUL
HAN | STEVEN | DONGHEE
HAND | VESSILA | ZHIVKOVA
HARLESS | RUSSELL | BRISTOW
HARRIS | TATSUMI | MICHAEL
HARTMANN | RUDOLPH |
HARTMANN | SUSANNE | BARBARA
HATHAWAY | JANET | K
HAUPTLI | DIANE | MARIE
HAY | KATHERINE | MARIE
HEBRON | VERA |
HEIM | JULIA |
HEIM | MARC | ALAIN
HEMMER | DORA |
HENNESSY | STEPHEN | ERNST
HENSCHKE | LELAND |
HERRERA | PAOLA |
HERRMANN | CELINE |
HERRMANN | HENRIK |
HERTACH | KAARIN | STEPHANIE
HEUSSER | MICHAEL | CHRISTOPH
HEYMANS | PHILIPPE | JACQUES
HEYNEN | SEBASTIAN | CHRISTIAN
HILL | MARSHA | ANN
HILL | SCOTT | GREGORY
HIRAI | LISA |
HIRSHBIEN | DROR |
HOEPKER | ELMER | CHRIST
HOEPKER | WALTRAUD | MARIA
HOFER | CATHERINE | LOUISE
HOFER REYES AGUIRRE | STEFANIE | CHRISTIN
HOLLAND | JEFFREY | SCOTT
HOLLIGER | BEATRICE | CHARLOTTE
HOLTON | ALBERT | JOHN
HOMSI | SUHAIL | KAMEL
HONG | TEDDY | P
HOPPE | MICHAEL |
HOPPER | JAMES | RICHARD
HOSOTSUJI | KENSAKU |
HROVAT | ROBERT | KLEMEN
HSU | VICTORIA |
HUDOVERNIK | ISABELLE | MARIE-CHRISTINE
HUGES-GREEN | CHRISTOPHER | GEORGE
HUGHES | LEH | HEAN
HUNGERBUHLER | VANESSA |
HUYGEN | KIM |
HYDE | JESSICA | LYNN BAUMGARTEN
HYNDMAN | ANDREW | SCOTT
IDILBY | KARIM | ZIAD
IMAMOGLU | ATAC |
IN | YUNICE | YUN
INGRAM | JAMES | RONALD JOHN
INOUYE | NAOMI | KENNETH
ISELIN | WILLIAM | ALEX
ISOARD | MARIE | TUROLLA
JABR | WISSAM | F.
JAWA | JAMAL | AHMED
JEEVANJEE | SALMA |
JOHNSON | CRYSTAL | DENISE
JOHNSON | JASON | BOB
JONES | ALEXANDER | VAJSOVA
JOST-LEDER | JOANNA | ELIZABETH
JOWETT | KIERSTEN | JULIA
JUD | MARLISE | NATALIE
JUNG | KOOYUL |
KAMPMANN | VERONIQUE |
KANG | DONG | YOON
KAO | TIMOTHY | DANIEL
KARZAI | MAHMOOD |
KAUFMANN | CHRISTINE | ANITA
KAUFMANN | FELIX | HANS
KAUL | AJAI | MOHAN
KAWATE | TAKASHI |
KEEGAN | CHRISTOPHER | JOHN
KEELER | ELISABETH | A
KEELER | SAMUEL | JOSEPH
KEELER | TODD | BYRON
KEENAN | KELLY | ANNE
KELSALL | KEITH | PHILIP
KENNEDY | JOSEPH | PAUL
KERKER | KATTRIN | ANDREA
KERKER | STEPHANIE | CHRISTINA
KERNLAND | MARTIN | EGIL
KERR | SUSAN | LEE POAD
KESSLER | PHILIPPE | NICOLAS
KETTANEH-MEJANES | ISHTAR | THERESE
KIM | YOUNG | OK
KIMCHE | DEGANIT | MEIRA
KIM-KWON | MYUNG | JA
KINGDON-GRUENWALD | ELIZABETH |
KISH | ALADAR | FRANK
KITTREDGE | FRANK | HOLMES
KLADDE | JOHN | RICHARD
KLEINER | KAREN | ELISABETH
KLESCH | A. GARY | EDWARD
KLESCH | ANITA | MAE
KO | MICHELE | TIEN-WAH
KOBLET | HANSBEAT | BEAT
KOENITZER | KATHERINE | W
KOERNER | KARL | GREGORY
KOH | MONIQUE | WEILING
KRAAN | HERMINA | CORNELIA
KROLL | DETLEF | MARTIN
KUHNS | MICHAEL | RICHARD
KUNNASAGARAN | NIRASHA |
KUNZ | DANIEL | ANDREAS
KUO | RAYMOND | CHYNG JEN
LACK | STEPHEN | GEOFFREY
LAM | SCHEHERAZADE | HERA
LANDOLT CASPAR | HEDY | AGNES PATRICIA
LANG | NIELS | CHRISTIAN
LANGFORD | KENNETH | ROYSTON
LAPAN | DIANNE | MARIE
LARGE | JUDITH | ANN
LAWRENCE | CLARE | SEAN
LAWSON | ANITA |
LAWSON | THOMAS | OLIVER
LEE | DAVID | MINZAE
LEE | GRACE | HYUNJU
LEE | HYUK |
LEE | KEVIN |
LEHMANN | ANDREAS | PETER
LEMMIN | NICOLAS | JOHN
LEUBA | NICOLAS | CHRISTIAN
LEUENBERGER-REINHART | CHRISTINE | CECILIA
LEVENE | LOUIS | STEVEN
LEVERRIER | MARIE | HELENE
LIAO | SHU-CHIN |
LIEU | SUUN-CHEN |
LIM | MELISSA | CHENG-YONG
LINIGER-KERLAND | MARK | ANDREA
LIPS-RAUBER | CHRISTINA | ANN ELIZABETH
LIVINGSTON | MARK | PHILLIP
LLIFFE | DEBORAH | MARCI
LLOYD | MARGARET | AU
LOCKE-TECKEMEIER | LORETTA | ULLRICH
LOCKE-TECKMEIER | LORETTA | U.
LONG | CHRISTINE |
LONGLOTT | JOHN | ALFRED
LOUVET | VERONIQUE | F
LOW | ATHENA | HWEE-LENG
LOY | SEBASTIAN | JEFFREY
LYSTER | RUSSELL | JOHN
MA | CUI | QUN
MADI | TALA | SHEHABEDDIN
MADURO | ALFREDO | LUIS
MADURO | PEGGY | CECILIA
MALONEY JR, | RICHARD | DAVID
MANNING | NATHAN | MERLYN
MANTEI | NED | ARTHUR
MANTEI | THOMAS |
MANTEI | VANESSA | ANNA
MARCOTTE | LESLIE | AGNES
MARKHAM | AMANDA | JULIET
MARLAND | CHRISTOPHER |
MARTIN | DEBORAH |
MASTERMAN | KENNETH | GEORGE
MC ADAM | KRISTIN | LYNN
MCCONNELL | PETER | CHARLES
MCFADDEN | NICOLAS | GALLICE
MCKENZIE | ALASTAIR | JAMES
MCMAHON | STEPHEN |
McMEEKIN | SAN | TERENCE
MEAD | ANJALEE | DEVENDRA
MEAGHER | CINDY | DAWN
MEEHAN | MATTHEW | JOSEPH
MEIER | MARCEL | HUGO
MENET-CIESLAK | AHMIE | IRENE
MENTEN | JENNIFER |
MESSER | ANJA |
METAXAS | KIMBERLY | EVELYN
METZGER | MARGARET | SHEILA
METZLER | CHANTAL | MARIE
MEZZADRI | URS |
MICHAELS | ANDREW |
MICHEL | JUDY | DIANE
MILLS | ANITA | LOUISE
MIOZZARI | HERMES |
MONDADORI | FILIPPO |
MORRICE | MELINDA | ISABEL ARIAS
MORRICE JR | FRANK |
MOSES | JUAN | RAUL ROUX
MOSSERI-MARLIO | CHARLES | ALEXANDRE
MUELLER | GABRIELE | SUSANNE
MUELLER | JANINE | DOROTHEA
MULLER | NICOLAS | JOHANNES
MUSTAFAWI | BADER | AHAMID
MUZYKA | DMITRY |
NAFZIGER | DONALD | WAYNE
NEAL | JANE | VALERIE
NEITHARDT-HOWARD | HELEN | CLAIR
NESTERENKO | MICHAEL | DOMINIQUE
NORRIS | STEPHEN | ROBERT
NORTON | JUDITH | ANN
NUSSBAUMER-DOLEZAL | BLANCA | IRENE
OBSCHLAGER | KEVIN | FRED
OERTILI | JOHANN | JAKOB
OERTLI | REGULA | EMMA
OHANNESIAN | PAUL | B.
OLSON | LAURA | LEE
ORTMANS | OSCAR | ARCHIBALD GUY
OSTBERG | NILS | ERIC
OSTIER | GREGORY | ALEXANDRE
OWEN-RICHER | GWEN |
PARK | HWI | JUNG
PARK | JAIOOK |
PARK | SIEHYUN |
PARK | YONG | JIN
PARSONS JR | THOMAS | HENRY
PELIZZON | MARINA | SYLVIA
PELUSO | FREDERICK | JOSEPH
PENG | SHI | FEN
PERRY | RANDALL | STEWART
PFANDER | MARC | THOMAS
PHILIPPE | ANNE | JEANNE MADELEINE
PHILIPPE | MICHAEL | ROGER
PICHLER | LUCAS | TOBIAS
PIM | SALLY | ELIZABETH
PINTER | MARGARET | ETHEL
PIPES | JON | ERIC
PITTALUGA | MARCELLA | JANE
PLOTNIKOFF | JOYCE | EVELYN
POK | DAPHNE | YU-MEI
POON | DEREK | KA-WEI
POPOVICH | JAOHN | PAUL
POWELL | ROY | MCNEAL
PRAXMARER | MANUELA | EVELYN
PRINZHORN | THOMAS | CORD
PROFFITT | DANIEL | WILLIAM
PU | MARGARET |
PURY | ISABELLE |
PUSATERI | SALVATORE | JOSEPH
QUINN | ALEXANDRA | SARAH ELLICOTT
RAJWITSCHER | IRINA |
RAMSTEIN | LISA | A.
RASHTI | CAMERON | ANTHONY
RAYNER | TESSA | JOY
REBITZER | GERALD | ALEXANDER
REDDISH | LESLEY | GREER
REDNER | RON | CHAIM
RELYEA | WALTER | BYRON
REUBEN | DEBRA |
REUSSER-ZONDLER | BIRGIT |
REVERDIN | CHRISTOP | ALEXANDRE
RICHARDS | MYEONG | CHA
RICHARDSON | SUSAN | JANE
RIESEN-GRASSLER | MONIQUE | ANNE
RINGIER | ADINA | SOPHIE
RINGIER | DAVINA | LILLY
ROBINSON-YAKELEY | STEPHEN |
ROCHAT | CHRISTIANE |
RODIN | LENA | IRENE
RODIN-MEDINA | TANIA | ELIONORA
ROHNER | MARLIES | ARNETTE
ROOT | FRANCIS | JEROME
RUPP | STEPHAN |
RUSSELL-SIENESI | JANICE | LUCY
RYAN | STEPHEN | ALEXANDER
SABBAGH | RAJA | NEMEH
SADEGHI | SOGHRA | MADELEINE
SADIK | ELSHEREEF | ZEID HARITH
SAEMANN | LILIAN | ALICE
SAI | ABDUL | RAHMAN MOHAMMED
SAKALLAH | SUZIE | T.
SALATHE | MARK | WILLIAM
SALATHE | MONICA | JACQUELINE
SALEM | SALEM | A
SALTER | WILLIAM | DAVID
SAMIDA | RAINER | JOHN
SANDOZ | MARIA | ELENA JACQUELINE
SARAFA | ANTHONY | ALAN
SAVAGE | LESLIE | ANN
SAVAGE | SEAN | ANDREW
SCHAER | ESTHER | DORA
SCHAERER | KAREN |
SCHAERER | MICHAEL |
SCHAERER | NICHOLAS |
SCHEU | KATHRIN | DANIELA
SCHILD | BARBARA |
SCHMID | ANDREW |
SCHMIDT | KIM | MELANIE
SCHMITH | SCOTT | CHARLES
SCHMOCKER | ANDREAS | STEVEN
SCHNELLMANN | KATHRIN |
SCHOLEFIELD | JACQUELINE | ANNE
SCHRAMM | GERHARD |
SCHREDER | CYRILLE | ALBERT-DENIS
SCHUBERT | MONIKA | NANCY
SCHUERCH | CARMEN | FULVIA KUMMER
SCHWARTZ | TAMARA |
SCHWEIZER | ANDREA | SUSAN
SCHWEIZER | BRANDON | MICHEL
SEEHOLZER | MONICA |
SELVIDGE | DEREK | BRET
SEO | CHONG | AE
SHARPE | DAVID | RICHARD JAMES
SHEDIAC | RICHARD | CAESAR
SHEN | MARGARET | YIN MAN
SHIMODA | JODY | ANN
SILVERSTEIN | A | JAY
SIMON | DOUGLAS | NORMAN
SIMONI | ANNE | WINKLER
SIMONI | CARLO | ALBERTO
SLEE | ALEXANDER | WILLIAM WOLF
SMITH | ANNETTE | GABRIELLE
SMITH | GEMMA | HARRIET ROSAY
SMITH | HOSANNA | ISRAEL
SMITH | STEVEN | JOHN
SNG | JOSHUA | JIN WEI
SOLTANIEH | SHABNAM |
SONG | SUNG-HEE |
SOON | DOMINIC | CHEE
SPADOLA | LUCA | ANTONIO
SPAHR | LAURENT | FRANCOIS
SPERB | FERDINAND |
SPYRIS-METAXAS | ANDREW | PHILLIP
ST. JOHNSTON | FREDERICK | IAN
STAEHELIN | NANCY | ANN
STAHEL | MICHELLE | DENISE
STANFORD | JUDITYH | ANNE
STAUFER | KATRIN | LISA
STEHLIN | MARC | PIERRE
STEINEGGER | ELFRIEDE |
STEINEGGER | JUERG | M.
STEINER | TESSA | ANN
STERLING | RICHARD | MORRIS
STIEFEL | NIKLAUS | GEORG
STOCKLI | EDITH | CATHERINE
STOLLHOF | NORMAN | MARCUS
STOLZ | MARK | EDWARD
STRICKER | MARTIN | ERICH
STROTMANN | CARROL | PATRICIA
STUBER | GABRIELE | BEATRICE
STUCKY | ERIKA | DORIS
STUDER | ANTON | ALOIS
SULC | DAVID | THEODORE
SULZER | MARAGARET | ELIZABETH
SUN | DIANA | XIAOXIN AI
SUNDBERG | NANCY | JOHANNE
SUTTON | JANET | RISA
SZURAN | CHRISTINE | ELISABETH
TAKEMURA | SHUMA |
TAN | ANNA | GUEK YONG
TAN | JUI HANG | BEJAMIN
TAN | LISA | MARIE
TANG | XIN-YI | DANIEL
TASILLO-HIRT | ANN | M.
TAYLOR | CURTIS | GORDON
TEITLER | NURIA | JANINE
THOMANN | KATHLEEN | MILLY
THOMAS | SILVIA | MAGDALENA
THOMAS | STEPHEN | SIDNEY
THOMMEN | DOROTHY | HELEN
THOMPSON, JR. | BARRY | DELTON
THURNHERR | THOMAS | BRUNO
TING | SHERYL | HSIEN-JU
TIRMAN | GEOFFREY (JEFFREY) | JOHN
TISSOT-DIT-SANFIN | BARBARA | ALICE
TOMPKIN | CHRISTINA | SIGG
TOMPKIN | WAYNE | ROBERT
TORGENSON | PAUL | ROBERT
TOROK | JAMES | ANDREW
TORPHY | MICHAEL | DAVID
TROST | MINNA | ROSWITHA
TSAI | ALICE | FENG-FANG
TSCHURTSCHENTHALER | PAUL | MATTHEW
TSOUVELEKAKIS | DEMETROIS |
TUQAN | SALMA | USAMA
TUQAN | TAREK | USAMA
TYNAN | MYRA | CLAIRE
TYTGADT | JEAN-PHILIPPE | LUCIEN
VAN DER LOOS | MARYSA | CHRISTINE
VAN DRIEM | GEORGE | LOUIS
VAN HERTSEN | ISABELLE | MARIE
VANDEN-BERGHE | HELEN | ANN
VERNER | JAMES | AUGUSTINE
VOGEL | CHRISTIAN | MARTIN
VOGT-MUEHLEMANN | SALLY | MADELENE
VOLLENWEIDER-ROTEN | SONJA | IRENE
VON GEMMINGEN-HORNBERG | MICHAEL | PLEIKARD
WAGNER | WOLFGANG | KARL
WALLACE | ELISABETH |
WANDER | FRANCOISE | MARIE MAGDELEINE
WANG | AI-LI |
WANG | AI-LIN |
WANG | ANDREW | RUI WEN
WANG | DENNIS |
WANG | LILI |
WATTIAUX | JACK |
WATTS | UTE | KATE
WEBER | CAROLINA | MARY
WELLS | MADELINE |
WENTZ III | DANIEL | STAIR
WESTERN | ALFRED | WARD
WHITE | DAVID | ANTHONY
WIDMER-NOETZLI | FRANZISKA | MARIA
WIGGENHAUSER | MARTIN | ANDRE
WILLERS | STANLEY |
WINDEMUTH | EDITH | KATHREEN
WINNINGTON | EDWARD | ALAN
WIRTHNER | MONA | MARGUERITE
WONG | ADA | YUK NG
WONG | GEORGE | KA KUI
WONG | JOELYNN | JAILIN
WOO | STEPHEN | HENG-CHE
WU | JOHN | JIONG
WU | QU | OU
WUETHRICH | MARTINA | HELEN
WULLSCHLEGER-LUDLOW | SYLVIA | JEANNE
WURMBOECK | ALICE | VERENA
WYMAN | SUZANNE | ACCOSTA
XIE | ZAN | XIANG
YADIGAROGLU | CHARRIS | GEORGE
YANSOUNI | LAURENCE |
YASSIN | SAMMY | AKRAM
YATES-DAVIS | MARY |
YAU | ROLAND | CHE WAI
YEATES | EUNICE | MARY
YIK | BONNIE | KA MING
YIM | ELIZABETH |
YIM | JON | BENNI
YOUNG | CHRISTA | ELIZABETH ETIENNE
YUJUICO | GABRIELLE | FRANCESCA
ZARDA-HESS | ANNATINA |
ZEITMAN | ALLEN | MICHAEL
ZEITMAN | LIKAS | JOHANNES
ZIELINSKI | CAMILLA | CAROL
ZOESCH | RICHARD | WILLIAM
ZURBUCHEN | RICHARD | WALTER
ZURFLUH | MARGRIT | JEAN
ZWACK de WAHL | ISABELLA | VERONIKA

Dated: April 19, 2013.
Ann V. Gaudelli,
Manager Team 103, Examinations Operations—Philadelphia Compliance Services.

[FR Doc. 2013-10852 Filed 5-7-13; 8:45 am]

BILLING CODE 4830-01-P